NUCLEAR REGULATORY COMMISSION

[NRC-2015-0229]

Design of Structures, Components, Equipment, and Systems

AGENCY: Nuclear Regulatory Commission.

ACTION: Standard review plan-draft section revision; request for comment.

SUMMARY: The U.S. Nuclear Regulatory Commission (NRC) is soliciting public comment on the following sections in Chapter 3, “Design of Structures, Components, Equipment, and Systems Reactor Coolant System and Connected Systems” of NUREG-0800, “Standard Review Plan for the Review of Safety Analysis Reports for Nuclear Power Plants: LWR Edition,” Section 3.9.2, “Dynamic Testing and Analysis of Systems, Structures, and Components,” Section 3.9.4, “Control Rod Drive Systems,” Section 3.9.5, “Reactor Pressure Vessel Internals,” and Section 3.9.6, “Functional Design, Qualification, and Inservice Testing Programs for Pumps, Valves, and Dynamic Restraints.”

DATES: Comments must be filed no later than November 30, 2015.

ADDRESSES: You may submit comments by any of the following methods (unless this document describes a different method for submitting comments on a specific subject):

• Federal Rulemaking Web site: Go to http://www.regulations.gov and search for Docket ID NRC-2015-0229. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Mark Notich, telephone: 301-415-3053; email: Mark.Notich@nrc.gov; or Nishka Devaser, telephone: 301-415-5196; email: Nishka.Devaser@nrc.gov. Both are staff of the Office of New Reactors, U.S. Nuclear Regulatory Commission, Washington, DC 20555-0001.

SUPPLEMENTARY INFORMATION:

I. Obtaining Information and Submitting Comments

A. Obtaining Information

Please refer to Docket ID NRC-2015-0229 when contacting the NRC about the availability of information regarding this document. You may obtain publicly-available information related to this document by any of the following methods:

• Federal Rulemaking Web site: Go to http://www.regulations.gov and search for Docket ID NRC-2015-0229.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. For the convenience of the reader, instructions about obtaining materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2015-0229 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

The NRC seeks public comment on the proposed draft revisions of Standard Review Plan (SRP) Sections 3.9.2, 3.9.4, 3.9.5, and 3.9.6. These sections have been developed to assist the NRC staff review the design of structures, components, equipment, and systems under parts 50 and 52 of Title 10 of the Code of Federal Regulations (10 CFR). The revisions to these SRP sections reflect no changes in staff position; rather they clarify the original intent of these SRP sections using plain language throughout in accordance with the NRC's Plain Writing Action Plan. Additionally, these revisions reflect operating experience, lessons learned, and updated guidance since the last revision, and address the applicability of regulatory treatment of non-safety systems where appropriate.

Following the NRC staff's evaluation of public comments, the NRC intends to finalize the proposed revisions of the subject SRP Sections in ADAMS and post them on the NRC's public Web site at http://www.nrc.gov/reading-rm/doc-collections/nuregs/staff/sr0800/.

III. Availability of Documents

SRP Section | Current revision ADAMS accession No. | Proposed revision ADAMS accession No. | Redline ADAMS accession No.
Section 3.9.2, “Dynamic Testing and Analysis of Systems, Structures, and Components” | Revision 3 (ML070230008) | Revision 4 (ML15041A281) | ML15041A367
Section 3.9.4, “Control Rod Drive Systems” | Revision 3 (ML063190004) | Revision 4 (ML15041A242) | ML15041A334
Section 3.9.5, “Reactor Pressure Vessel Internals” | Revision 3 (ML070230009) | Revision 4 (ML15041A234) | ML15041A320
Section 3.9.6, “Functional Design, Qualification, and Inservice Testing Programs for Pumps, Valves, and Dynamic Restraints” | Revision 3 (ML070720041) | Revision 4 (ML15040A052) | ML15041A287

IV. Backfitting and Issue Finality

Issuance of these draft SRP sections, if finalized, does not constitute backfitting as defined in 10 CFR 50.109, nor is it inconsistent with any of the issue finality provisions in 10 CFR part 52. These draft SRP sections do not contain any new requirements for COL applicants or holders under 10 CFR part 52, or for licensees of existing operating units licensed under 10 CFR part 50. Rather, it contains additional draft guidance and clarification on staff review of Preliminary Amendment Requests.

The NRC staff does not intend to impose or apply the positions described in the draft SRP to existing licenses and regulatory approvals. Hence, the issuance of a final SRP—even if considered guidance within the purview of the issue finality provisions in 10 CFR part 52—would not need to be evaluated as if it were a backfit or as being inconsistent with issue finality provisions. If, in the future, the NRC staff seeks to impose a position in the SRP on holders of already issued licenses in a manner that does not provide issue finality as described in the applicable issue finality provision, then the staff must make the showing as set forth in the Backfit Rule or address the criteria for avoiding issue finality as described in the applicable issue finality provision.

The NRC staff does not, at this time, intend to impose the positions represented in the draft SRP sections in a manner that is inconsistent with any issue finality provisions. If, in the future, the staff seeks to impose a position in the draft SRP in a manner that does not provide issue finality as described in the applicable issue finality provision, then the staff must address the criteria for avoiding issue finality as described in the applicable issue finality provision.

Dated at Rockville, Maryland, this 18th day of September, 2015.
For the Nuclear Regulatory Commission.
Kimyata Morgan Butler,
Acting Chief, New Reactor Rulemaking and Guidance Branch, Division of Advanced Reactors and Rulemaking, Office of New Reactors.

[FR Doc. 2015-24654 Filed 9-28-15; 8:45 am]

BILLING CODE 7590-01-P